ENVIRONMENTAL PROTECTION AGENCY

40 CFR Part 52

[CA 248-0288b; FRL-7028-8]

Revisions to the California State Implementation Plan, El Dorado County Air Pollution Control District

AGENCY: Environmental Protection Agency (EPA).

ACTION: Proposed rule.

SUMMARY: EPA is proposing to approve revisions to the El Dorado County Air Pollution Control District (EDCAPCD) portion of the California State Implementation Plan (SIP). These revisions concern volatile organic compound (VOC) emissions from Phase I gasoline transfer into stationary storage tanks/Phase II gasoline transfer into vehicle fuel tanks, organic liquid loading, and valves and flanges. We are proposing to approve local rules and proposing to approve the recision of local rules that regulate these emission sources under the Clean Air Act as amended in 1990 (CAA or the Act). We are also proposing to approve a negative declaration that concerns VOC emissions from bulk terminal facilities or external or internal floating roof tank sources.

DATES: Any comments on this proposal must arrive by September 26, 2001.

ADDRESSES: Mail comments to Andy Steckel, Rulemaking Office Chief (AIR-4), U.S. Environmental Protection Agency, Region IX, 75 Hawthorne Street, San Francisco, CA 94105.

You can inspect copies of the submitted rule revisions and EPA's technical support document (TSD) at our Region IX office during normal business hours. You may also see copies of the submitted rule revisions and TSD at the following locations:

Environmental Protection Agency, Air Docket (6102), Ariel Rios Building, 1200 Pennsylvania Avenue, N.W., Washington D.C. 20460.

California Air Resources Board, Stationary Source Division, Rule Evaluation Section, 1001 “I” Street, Sacramento, CA 95814.

El Dorado County Air Pollution Control District, 2850 Fairlane Court, Building C, Placerville, CA 95667.

FOR FURTHER INFORMATION CONTACT: Al Petersen, Rulemaking Office (AIR-4), U.S. Environmental Protection Agency, Region IX; (415) 744-1135.

SUPPLEMENTARY INFORMATION: This proposal addresses the approval of the local EDCAPCD Rules 238, 244, and 245, the recision of local EDCAPCD Rules 900 through 914, and approval of a Negative Declaration concerning Bulk Terminal Facilities or External or Internal Floating Roof Tank Sources. In the Rules and Regulations section of this Federal Register, we are approving and rescinding these local rules in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: July 31, 2001.
Jane Diamond,
Acting Regional Administrator, Region IX.

[FR Doc. 01-21439 Filed 8-24-01; 8:45 am]

BILLING CODE 6560-50-P